NATIONAL SCIENCE FOUNDATION

Sunshine Act Meetings

The National Science Board's (NSB) Committee on Science and Engineering Policy hereby gives notice of the scheduling of a teleconference for the transaction of National Science Board business pursuant to the National Science Foundation Act and the Government in the Sunshine Act.

TIME AND DATE: Wednesday, August 3, 2022, from 11:00 a.m.-12:00 p.m. EDT.

PLACE: This meeting will be held by video conference through the National Science Foundation.

STATUS: Open.

MATTERS TO BE CONSIDERED: The agenda is: Committee Chair's opening remarks; Update on Indicators 2024 cycle; America's DataHub presentation and discussion; discussion of policy topics under consideration by the committee, including international STEM talent and expanding representation of low-socioeconomic status individuals in STEM.

CONTACT PERSON FOR MORE INFORMATION: Point of contact for this meeting is: (Chris Blair, cblair@nsf.gov), 703/292-7000. Members of the public can observe this meeting through a You Tube livestream. Access the livestream at https://youtu.be/BCBIhzZSbaE.

Chris Blair,
Executive Assistant to the National Science Board Office.

[FR Doc. 2022-16189 Filed 7-25-22; 4:15 pm]

BILLING CODE 7555-01-P